DEPARTMENT OF COMMERCE

National Oceanic and Atmospheric Administration

RIN 0648-XC667

Endangered Species; File No. 17304

AGENCY: National Marine Fisheries Service (NMFS), National Oceanic and Atmospheric Administration (NOAA), Commerce.

ACTION: Issuance of permit.

SUMMARY: Notice is hereby given that Kristen Hart, Ph.D., U.S. Geological Survey, 3205 College Ave., Davie, Florida, 33314 has been issued a permit to take loggerhead (Caretta caretta), hawksbill (Eretmochelys imbricata), Kemp's ridley (Lepidochelys kempii), and green (Chelonia mydas) sea turtles for purposes of scientific research.

ADDRESSES: The permit and related documents are available for review upon written request or by appointment in the following offices:

Permits and Conservation Division, Office of Protected Resources, NMFS, 1315 East-West Highway, Room 13705, Silver Spring, MD 20910; phone (301)427-8401; fax (301)713-0376; and

Southeast Region, NMFS, 263 13th Ave South, St. Petersburg, FL 33701; phone (727)824-5312; fax (727)824-5309.

FOR FURTHER INFORMATION CONTACT: Amy Hapeman or Rosa L. González, (301)427-8401.

SUPPLEMENTARY INFORMATION: On May 17, 2013, notice was published in the Federal Register (78 FR 29114) that a request for a scientific research permit to take loggerhead, green, hawksbill, and Kemp's ridley sea turtles had been submitted by the above-named individual. The requested permit has been issued under the authority of the Endangered Species Act of 1973, as amended (ESA; 16 U.S.C. 1531 et seq.) and the regulations governing the taking, importing, and exporting of endangered and threatened species (50 CFR parts 222-226).

Permit No. 17304 authorizes researchers to capture 100 green, 100 loggerhead, 90 Kemp's ridley, and 20 hawksbill sea turtles annually by hand or using nets in the northern Gulf of Mexico. Alternative to direct capture, researchers may obtain sea turtles for study that are legally captured during relocation trawling for the U.S. Army Corps of Engineers. Sea turtles may have the following procedures performed before release: Measure; remove epibiota; carapace mark; photograph/video; flipper and passive integrated transponder tag; weigh; skin, fecal, scute and blood sample; stomach lavage; track; and/or attach up to three transmitters. The permit is valid for 5 years beginning October 1, 2013.

Issuance of this permit, as required by the ESA, was based on a finding that such permit (1) Was applied for in good faith, (2) will not operate to the disadvantage of such endangered or threatened species, and (3) is consistent with the purposes and policies set forth in section 2 of the ESA.

Dated: September 24, 2013.
P. Michael Payne,
Chief, Permits and Conservation Division, Office of Protected Resources, National Marine Fisheries Service.

[FR Doc. 2013-23544 Filed 9-26-13; 8:45 am]

BILLING CODE 3510-22-P